SURFACE TRANSPORTATION BOARD

[Docket No. EP 290 (Sub-No. 5) (2022-3)]

Quarterly Rail Cost Adjustment Factor

AGENCY: Surface Transportation Board.

ACTION: Approval of rail cost adjustment factor.

SUMMARY: The Board has approved the third quarter 2022 Rail Cost Adjustment Factor (RCAF) and cost index filed by the Association of American Railroads. The third quarter 2022 RCAF (Unadjusted) is 1.250. The third quarter 2022 RCAF (Adjusted) is 0.512. The third quarter 2022 RCAF-5 is 0.487.

DATES: Applicability Date: July 1, 2022.

FOR FURTHER INFORMATION CONTACT: Pedro Ramirez at (202) 245-0333. Assistance for the hearing impaired is available through the Federal Relay Service at (800) 877-8339.

SUPPLEMENTARY INFORMATION: Additional information is contained in the Board's decision, which is available at www.stb.gov.

Decided: June 16, 2022.
By the Board, Board Members Fuchs, Hedlund, Oberman, Primus, and Schultz.
Regena Smith-Bernard,
Clearance Clerk.

[FR Doc. 2022-13429 Filed 6-22-22; 8:45 am]

BILLING CODE 4915-01-P